DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of one vessel identified as blocked property that has been removed from OFAC's Specially Designated Nationals and Blocked Persons List (SDN List). Property and interests relating to the vessel are no longer blocked, and U.S. persons are no longer generally prohibited from engaging in transactions relating to the vessel.

DATES: See Supplementary Information section for applicable date(s).

FOR FURTHER INFORMATION CONTACT: OFAC: Andrea Gacki, Director, tel.: 202-622-2480; Associate Director for Global Targeting, tel: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On August 13, 2021, OFAC identified the following vessel as property in which a blocked person has an interest pursuant to Executive Order 13224 of September 23, 2001, “Blocking Property and Prohibiting Transactions With Persons Who Commit, Threaten to Commit, or Support Terrorism,” as amended by Executive Order 13886 of September 9, 2019, “Modernizing Sanctions to Combat Terrorism.” On January 31, 2022, OFAC determined that the property and interests in property subject to U.S. jurisdiction of the following vessel are no longer blocked, and the vessel has been removed from the SDN List.

Vessel:

1. OMAN PRIDE Crude Oil Tanker; Additional Sanctions Information—Subject to Secondary Sanctions; Vessel Registration Identification IMO 9153525 (vessel) [SDGT] (Linked To: BRAVERY MARITIME CORPORATION).

Dated: January 31, 2022.
Andrea M. Gacki,
Director, Office of Foreign Assets Control, U.S. Department of the Treasury.

[FR Doc. 2022-02304 Filed 2-2-22; 8:45 am]

BILLING CODE 4810-AL-P